DEPARTMENT OF HEALTH AND HUMAN SERVICES

Food and Drug Administration

[Docket No. 2003N-0361]

Anti-Counterfeit Drug Initiative; Correction

AGENCY: Food and Drug Administration, HHS.

ACTION: Notice; correction.

SUMMARY: The Food and Drug Administration (FDA) is correcting a notice that appeared in the Federal Register of August 26, 2003 (68 FR 51270). The document announced the establishment of a docket to receive information and comments on the agency's initiative against counterfeit drugs. The document published with incorrect information in the DATES section. This document corrects that error.

FOR FURTHER INFORMATION CONTACT: Joyce A. Strong, Office of Policy and Planning (HF-27), Food and Drug Administration, 5600 Fishers Lane, Rockville, MD 20857, 301-827-7010.

SUPPLEMENTARY INFORMATION: In FR Doc. 03-21751, appearing on page 51270 in the Federal Register of August 26, 2003, the following correction is made:

1. On page 51270, in the first column, the DATES section is corrected to read “DATES: The agency encourages interested parties to submit information by November 3, 2003.”

Dated: September 5, 2003.
Jeffrey Shuren,
Assistant Commissioner for Policy.

[FR Doc. 03-23250 Filed 9-11-03; 8:45 am]

BILLING CODE 4160-01-S